DEPARTMENT OF THE INTERIOR

[2253-665]

National Park Service

Notice of Inventory Completion: Minnesota Indian Affairs Council, Bemidji, MN

AGENCY: National Park Service, Interior.

ACTION: Notice.

SUMMARY: The Minnesota Indian Affairs Council has completed an inventory of human remains in consultation with the appropriate Indian tribes, and has determined that there is no cultural affiliation between the remains and any present-day Indian tribe. Representatives of any Indian tribe that believes itself to be culturally affiliated with the human remains may contact the Minnesota Indian Affairs Council. Disposition of the human remains to the Indian tribes stated below may occur if no additional requestors come forward.

DATES: Representatives of any Indian tribe that believes it has a cultural affiliation with the human remains should contact the Minnesota Indian Affairs Council at the address below by January 23, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains in the possession of the Minnesota Indian Affairs Council, Bemidji, MN. The human remains were removed from unknown locations in the State of Minnesota.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Minnesota Indian Affairs Council (MIAC) professional staff in consultation with representatives of the Bad River Band of the Lake Superior Tribe of Chippewa Indians of the Bad River Reservation, Wisconsin; Bois Forte Band (Nett Lake) of the Minnesota Chippewa Tribe, Minnesota; Flandreau Santee Sioux Tribe of South Dakota; Fond du Lac Band of the Minnesota Chippewa Tribe, Minnesota; Grand Portage Band of the Minnesota Chippewa Tribe, Minnesota; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Leech Lake Band of the Minnesota Chippewa Tribe, Minnesota; Lower Sioux Indian Community in the State of Minnesota; Mille Lacs Band of the Minnesota Chippewa Tribe, Minnesota; Minnesota Chippewa Tribe, Minnesota; Prairie Island Indian Community in the State of Minnesota; Red Cliff Band of Lake Superior Chippewa Indians of Wisconsin; Red Lake Band of Chippewa Indians, Minnesota; Santee Sioux Nation, Nebraska; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Turtle Mountain Band of Chippewa Indians of North Dakota; Upper Sioux Community, Minnesota; White Earth Band of Minnesota Chippewa Tribe, Minnesota (hereinafter referred to as “The Tribes”).

History and Description of the Remains

At an unknown date, human remains representing, at minimum, one individual were removed from an undesignated location in the State of Minnesota by unknown persons(s). In the 1930s, Malcolm McLean, a Dean at the University of Minnesota donated the human remains to the University of Minnesota (Acc. UM83). In 1989, the human remains were transferred to the MIAC. No known individuals were identified. No associated funerary objects are present.

The condition of the remains and dental morphology identify these human remains as pre-contact American Indian. The remains have no specific context or archeological classification and cannot be associated with any present-day Indian tribe.

At an unknown date, human remains representing, at minimum, one individual were removed from an undesignated location in the State of Minnesota by unknown person(s) and given to an antique dealer in Mankato, MN who transferred the remains to the Minnesota Office of the State Archaeologist in 1990. The human remains were then transferred to the MIAC in the same year (H180). No known individuals were identified. No associated funerary objects are present.

The condition of the remains and cranial morphology identify these human remains as pre-contact American Indian. The human remains have no specific context or archeological classification and cannot be associated with any present-day Indian tribe.

At an unknown date, human remains representing, at minimum, one individual were removed from an undesignated location in the State of Minnesota by unknown person(s) and reportedly used for anatomical study by a medical student. In 1991, the human remains were donated to the MIAC (H191). No known individuals were identified. No associated funerary objects are present.

The condition of the remains and cranial morphology identify these human remains as pre-contact American Indian. The human remains have no specific context or archeological classification and cannot be associated with any present-day Indian tribe.

At unknown dates, human remains representing, at minimum, seven individuals were removed from undesignated locations in the State of Minnesota by unknown persons and donated to the Science Museum of Minnesota. Between 1993 and 1994, the human remains were transferred to the MIAC (H228, H230, H255, H281). No known individuals were identified. No associated funerary objects are present.

The condition of the remains and cranial morphology identify these human remains as pre-contact American Indian. The human remains have no specific context or archeological classification and cannot be associated with any present-day Indian tribe.

At an unknown date, human remains representing, at minimum, one individual were removed from an undesignated location in the State of Minnesota by unknown person(s) and donated to the Minnesota Historical Society (Box#961N#31). In 1993, the human remains were transferred to the MIAC (H244). No known individual was identified. No associated funerary objects are present.

The condition of the remains suggests an ancient, pre-contact burial, and therefore probably American Indian affiliation. The human remains have no specific context or archeological classification and cannot be associated with any present-day Indian tribe.

At an unknown date, human remains representing, at minimum, two individuals were removed from an undesignated location in the State of Minnesota by unknown person(s) and donated to the Minnesota Historical Society (no Acc. # assigned). In 1994, the human remains were transferred to the MIAC (H251). No known individuals were identified. No associated funerary objects are present.

The condition of the remains, cranial morphology and dental attrition identify these human remains as pre-contact American Indian. The human remains have no specific context or archeological classification and cannot be associated with any present-day Indian tribe.

At an unknown date, human remains representing, at minimum, one individual were removed from an undesignated location in the State of Minnesota by unknown person(s) and donated to the Science Museum of Minnesota (Acc.164, 1-1501) by Dr. Mason Allen. In 1994, the human remains were transferred to the MIAC (H256). No known individuals were identified. No associated funerary objects are present.

The condition of the remains and cranial morphology identify these human remains as pre-contact American Indian. The human remains have no specific context or archeological classification and cannot be associated with any present-day Indian tribe.

At an unknown date, human remains representing, at minimum, two individuals were removed from an undesignated location in the State of Minnesota by unknown person(s) and donated to the Science Museum of Minnesota. In 1994, the human remains were transferred to the MIAC (H261). No records were associated with the transfer of these human remains from the Science Museum of Minnesota. The bones are marked as follows: “A-E SE MINN.” No known individuals were identified. No associated funerary objects are present.

The condition of the remains and the purported context identify these human remains as probably pre-contact American Indian. The human remains have no archeological classification and cannot be associated with any present-day Indian tribe.

At an unknown date, human remains representing, at minimum, one individual were removed from an undesignated location in the State of Minnesota by unknown person(s). In 1996, the human remains were discovered in the basement rafters of a private residence in Brainerd, MN. The remains had been modified with the addition of non-human glass eyes. The human remains were recovered by the Brainerd Police Department/Crow Wing County Sheriff and then transferred to the Minnesota Office of the State Archaeologist and then to the MIAC (H302). No known individuals were identified. No associated funerary objects are present.

The condition of the remains and cranial morphology identify these human remains as pre-contact American Indian. The human remains have no specific context or archeological classification and cannot be associated with any present-day Indian tribe.

At an unknown date, human remains representing, at minimum, five individuals were removed from undesignated locations in the State of Minnesota by unknown person(s) and donated to the Minnesota Historical Society. In 1987, the human remains were transferred to the MIAC (H319.44A). No records were associated with the transfer of these human remains from the Minnesota Historical Society. A note in the box states: “Found with wrapping of the St. Paul Daily News Nov. 25th (Sat) 1911.” Bags that contained the human remains were marked as MHS Unknown #1. No known individuals were identified. No associated funerary objects are present.

The condition of the remains, including the presence of red ochre staining, cranial morphology, and dental morphology identify these human remains as pre-contact American Indian. The human remains have no archeological classification and cannot be associated with any present-day Indian tribe.

At an unknown date, human remains representing, at minimum, four individuals were removed from undesignated locations in the State of Minnesota by unknown person(s) and donated to the Minnesota Historical Society. In 1987, the human remains were transferred to the MIAC (H319.44B). No records were associated with the transfer of these human remains from the Minnesota Historical Society. Bags that contained the human remains were marked as MHS Unknown #2. No known individuals were identified. No associated funerary objects are present.

The condition of the remains, cranial morphology, and dental morphology identify these human remains as pre-contact American Indian. The remains include a Woodland style projectile point embedded into a vertebra; this point was likely the cause of death of the individual, as no evidence of healing is present. The human remains have no archeological classification and cannot be associated with any present-day Indian tribe.

In the early 1970s, human remains representing, at minimum, two individuals were removed from undesignated locations in the State of Minnesota by unknown person(s) and donated to the Minnesota Historical Society (Acc. 1972-1-1 and 1972-2-1). In 1987, the human remains were transferred to the MIAC (H319.45). No records were associated with the transfer of these human remains from the Minnesota Historical Society. A note in the box states: “* * * from 1972 museum display.” Bags that contained the human remains were marked as MHS Unknown #3. No known individuals were identified. No associated funerary objects are present.

The condition of the remains and dental morphology identify these human remains as pre-contact American Indian. The human remains have no archeological classification and cannot be associated with any present-day Indian tribe.

At an unknown date, human remains representing, at minimum, 11 individuals were removed from undesignated locations in the State of Minnesota by unknown person(s) and donated to the Minnesota Historical Society. In 1987, the human remains were transferred to the MIAC (H319.46). No records were associated with the transfer of these human remains from the Minnesota Historical Society. The human remains were transferred in Minnesota Historical Society Museum Box AY6-A-2-5. These human remains were in bags labeled only as MHS Unknown A, MHS Unknown B, MHS Unknown C. No known individuals were identified. No associated funerary objects are present.

The condition of the human remains, cranial morphology, dental morphology and dental patterns of attrition identify these human remains as pre-contact American Indian. The human remains have no archeological classification and cannot be associated with any present-day Indian tribe.

At an unknown date, human remains representing one individual were removed from an undesignated archeological site in western Minnesota. The human remains were given to a private citizen. In 1995, the brother of the private citizen donated the human remains to the South Dakota State Archaeological Research Center (Acc. #96-109). In 1996, the human remains were transferred to the Minnesota Office of the State Archaeologist. In 1997, the human remains were transferred to the MIAC (H329). No known individuals were identified. No associated funerary objects are present.

The condition of the remains, including the presence of red ochre staining and cranial morphology identify these human remains as pre-contact American Indian. The human remains have no archeological classification and cannot be associated with any present-day Indian tribe.

At unknown dates, human remains representing, at minimum, ten individuals were removed from undesignated locations in the State of Minnesota by unknown persons and donated to the University of Minnesota. In 1998, the human remains were transferred to the MIAC (H338, H343, H344). No known individuals were identified. No associated funerary objects are present.

The condition of the remains and cranial morphology identify these human remains as pre-contact American Indian. The human remains have no archeological classification and cannot be associated with any present-day Indian tribe.

At an unknown date, human remains representing, at minimum, one individual were removed from an undesignated location in the State of Minnesota by unknown person(s) and donated to the University of Minnesota. In 1998, the human remains were transferred to the MIAC (H342). No known individuals were identified. No associated funerary objects are present.

The condition of the remains, including the presence of red ochre, and cranial morphology identify these human remains as pre-contact American Indian. The human remains have no archeological classification and cannot be associated with any present-day Indian tribe.

At unknown dates, human remains representing, at minimum, 16 individuals were removed from undesignated locations in the State of Minnesota by unknown persons and donated to the University of Minnesota. In 1998, the human remains were transferred to the MIAC (H345, H347, H349). No known individuals were identified. No associated funerary objects are present.

The condition of the remains, cranial morphology and dental morphology identify these human remains as pre-contact American Indian. The human remains have no archeological classification and cannot be associated with any present-day Indian tribe.

At an unknown date, human remains representing, at minimum, one individual were removed from an undesignated location in the State of Minnesota by unknown person(s) and donated to the University of Minnesota. In 1998, the human remains were transferred to the MIAC (H346). No known individuals were identified. No associated funerary objects are present.

The condition of the remains, cranial morphology and femora morphology identify these human remains as pre-contact American Indian. The human remains have no archeological classification and cannot be associated with any present-day Indian tribe.

At unknown dates, human remains representing, at minimum, three individuals were removed from undesignated locations in the State of Minnesota by unknown person(s) and donated to the University of Minnesota. In 1998, the human remains were transferred to the MIAC (H350). No known individuals were identified. No associated funerary objects are present.

The condition of the remains, cranial morphology, dental morphology and femora morphology identify these human remains as pre-contact American Indian. The human remains have no archeological classification and cannot be associated with any present-day Indian tribe.

At an unknown date, human remains representing, at minimum, one individual were removed from an undesignated location in the State of Minnesota by unknown person(s) and donated to the Science Museum of Minnesota (SMM Number: 1-1502, A; Acc: 8). In 1999, the human remains were transferred to the MIAC (H351). No known individuals were identified. No associated funerary objects are present.

The condition of the remains, cranial morphology and dental morphology identify these human remains as pre-contact American Indian. The human remains have no archeological classification and cannot be associated with any present-day Indian tribe.

At an unknown date, human remains representing, at minimum, three individuals were removed from an undesignated location in the State of Minnesota by unknown person(s). In the early 1970s, C. Watrall donated the remains to the University of Regina, Saskatchewan, where he was an associate professor. In 1999, the human remains were transferred to the Minnesota Office of the State Archaeologist. In 2002, the human remains were transferred to the MIAC (H382). Records with the transfer from the University of Regina, Saskatchewan report that catalogue entries identify the donated remains as originating from Minnesota but do not provide any information regarding recovery location, archaeological context, or cultural affiliation. No known individuals were identified. No associated funerary objects are present.

The condition of the remains, cranial morphology and femora morphology identify these human remains as pre-contact American Indian. The human remains have no archeological classification and cannot be associated with any present-day Indian tribe.

At an unknown date, human remains representing, at minimum, three individuals were recovered from an unknown site in the State of Minnesota by unknown person(s). In 2008, these human remains were transferred by a private citizen to the cultural director of the Shakopee Medewakaton community who transferred the human remains to the MIAC (H439).

The condition of the human remains suggests an ancient, pre-contact time period association. The cranial morphology and femora morphology identify these human remains as American Indian. The human remains have no archeological classification and cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains were removed is the aboriginal land of The Tribes.

• Pursuant to 25 U.S.C. 3001(9), the human remains described in this notice represent the physical remains of 78 individuals of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before January 23, 2012. Disposition of the human remains to The Tribes may proceed after that date if no additional requestors come forward.

The Minnesota Indian Affairs Council is responsible for notifying The Tribes that this notice has been published.

Dated: December 20, 2011.
Sherry Hutt,
Manager, National NAGPRA Program.

[FR Doc. 2011-32980 Filed 12-22-11; 8:45 am]

BILLING CODE 4312-50-P